DEPARTMENT OF THE INTERIOR

Fish and Wildlife Service

[FWS-R6-NWRS-2022-N044; FF06R06000-FXRS1265066CCP0S2-123]

Establishment of Lost Trail Conservation Area, Montana

AGENCY: Fish and Wildlife Service, Interior.

ACTION: Notice.

SUMMARY: This notice advises the public that the U.S. Fish and Wildlife Service (Service) has established the Lost Trail Conservation Area (LTCA), the 568th unit of the National Wildlife Refuge System. The Service established LTCA on July 13, 2022, with the purchase of a 38,052-acre conservation easement in Flathead and Lincoln counties, Montana.

ADDRESSES: Information on LTCA, including a map depicting the approved conservation area boundary, is available at https://www.fws.gov/media/lost-trail-conservation-area-land-protection-plan-and-environmental-assessment.

FOR FURTHER INFORMATION CONTACT: Jamie Hanson, Conservation Planner, (720) 591-8458 or via U.S. mail at Division of Refuge Planning, USFWS, P.O. Box 25486, DFC, Denver, CO 80225. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have established the Lost Trail Conservation Area (LTCA), the 568th unit of the National Wildlife Refuge System. We established LTCA on July 13, 2022, with the purchase of a 38,052-acre conservation easement in the northwestern part of Montana, in Flathead and Lincoln Counties. Conservation areas are National Wildlife Refuge System units that consist primarily or entirely of conservation easements on private lands. LTCA is unique in that it includes private timberland that has historically been open to the public on a voluntary basis. The establishment of this conservation area ensures that public recreational access to this land is maintained in perpetuity. LTCA will allow sustainable commercial timber harvests and provide wildlife-dependent recreational opportunities such as hunting, fishing, hiking, and wildlife viewing.

Conservation Area

LTCA's acquisition boundary delineates parcels where the Service may consider negotiations with willing sellers for easement acquisition. Conservation easements will protect critical, State-identified wildlife corridors; guarantee public access for sportspersons and outdoor enthusiasts in perpetuity; and allow for sustainable timber harvest that supports the local economy in northwest Montana. The project protects crucial habitat and linkage corridors for federally listed species, including grizzly bear, Canada lynx, Spalding's catchfly, and other federal trust species. This land will also secure a vital migration corridor for elk and mule deer. Part of the Heart of the Salish Priority Area identified in the Montana Fish, Wildlife, and Parks' Secretarial Order 3362, “State Action Plan for Big Game Winter Range and Migration Corridors,” the land within the project area provides over 6,000 hunter-use days per year and is the core area of the most popular elk-hunting district in northwest Montana. LTCA will also support Department of the Interior Secretarial Orders 3347, “Conservation Stewardship and Outdoor Recreation,” and 3356, “Hunting, Fishing, Recreational Shooting, and Wildlife Conservation Opportunities and Coordination with States, Tribes, and Territories,” by enhancing conservation stewardship; protecting outdoor recreation opportunities for all Americans, including opportunities to hunt and fish; and supporting game species and their habitats for this generation and beyond.

LTCA was funded by the Great American Outdoors Act and Land and Water Conservation Fund. The Service worked in partnership with the Trust for Public Land and the Confederated Salish and Kootenai Tribes (CSKT) to purchase the 38,052-acre conservation easement from continuing owner SPP Montana.

Public Involvement Process

In order to provide the public an opportunity to engage in the planning process, and in compliance with the National Environmental Policy Act of 1969 (42 U.S.C. 4321 et seq.), the Service prepared a draft environmental assessment (EA) that evaluated two alternatives and their potential impacts on the project area. The Service released the draft EA with a land protection plan on September 16, 2020, for a 30-day scoping, public review, and comment period.

The Service coordinated closely with Montana Fish, Wildlife and Parks and Tribes that were potentially affected by the proposal. CSKT expressed their strong support for the project. The Service also reached out to the county commissioners for Lincoln and Flathead counties and received a letter of support from both counties.

In early 2021, the Service released the final EA and land protection plan to authorize easement purchases from willing sellers within the LTCA. In developing the plan, the Service consulted with CSKT on prioritizing important wildlife habitat and its connection to their conserved lands, as well as with the State of Montana to connect landscape-level conservation efforts. Permanent easements on up to 100,000 acres may be added within the project boundary.

Based on the documentation contained in the EA, a finding of no significant impact was signed on November 20, 2020, for the authority to establish the LTCA.

Authorities

The acquisition authorities for easement lands within the proposed LTCA boundary are the Migratory Bird Conservation Act (16 U.S.C. 715a-r), the Migratory Bird Hunting and Conservation Stamp Act (16 U.S.C. 718a-k), the Refuge Recreation Act (16 U.S.C. 460k-460k-4), the Land and Water Conservation Fund Act of 1965 (54 U.S.C. 200301-200310), the Fish and Wildlife Act of 1956 (16 U.S.C. 742a-j), and the National Wildlife Refuge System Administration Act (16 U.S.C. 668dd et seq.).

Anna Muñoz,
Deputy Regional Director, Mountain-Prairie Region.

[FR Doc. 2022-22284 Filed 10-12-22; 8:45 am]

BILLING CODE 4333-15-P